DEPARTMENT OF DEFENSE

Office of the Secretary

[Docket ID: DoD-2014-HA-0153]

Privacy Act of 1974; System of Records

AGENCY: Defense Health Agency, DoD.

ACTION: Notice to alter a System of Records.

SUMMARY: The Defense Health Agency proposes to alter an existing system of records, EDHA 11, entitled “Defense Medical Human Resources System internet (DMHRSi)” in its inventory of record systems subject to the Privacy Act of 1974, as amended. This system consolidates all of the human resources functions, including readiness, manpower, labor cost assignment, education, and training, for personnel across the DoD medical enterprise, thereby providing a single database source of instant query/access for all personnel types and the readiness posture of all DoD medical personnel. This system of records permits ready access to essential manpower, personnel, labor cost assignment, education and training, and personnel readiness information across the DoD medical enterprise.

DATES: Comments will be accepted on or before December 19, 2014. This proposed action will be effective the date following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Linda S. Thomas, Chief, Defense Health Agency Privacy and Civil Liberties Office, Defense Health Agency, Defense Health Headquarters, 7700 Arlington Boulevard, Suite 5101, Falls Church, VA 22042-5101, or by phone at (703) 681-7500.

SUPPLEMENTARY INFORMATION: The Defense Health Agency notices for systems of records subject to the Privacy Act of 1974 (5 U.S.C. 552a), as amended, have been published in the Federal Register and are available from the address in FOR FURTHER INFORMATION CONTACT or at the Defense Privacy and Civil Liberties Office Web site at http://dpclo.defense.gov/. The proposed system report, as required by 5 U.S.C. 552a(r) of the Privacy Act of 1974, as amended, was submitted on November 12, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 14, 2014.
Aaron Siegel,
Alternate OSD Federal Register Liaison Officer, Department of Defense.

EDHA 11

System name:

Defense Medical Human Resources System internet (DMHRSi) (November 18, 2013, 78 FR 69076).

Changes

* * * * *

System location:

Delete entry and replace with “Defense Health Agency, Defense Health Headquarters, 7700 Arlington Boulevard, Suite 5101, Falls Church, VA 22042-5101.”

Categories of individuals covered by the system:

Delete entry and replace with “Active Duty Military, Reserve, National Guard, civilian employees who are assigned to or are part of the Military Health System or the DHA, and includes non-appropriated fund employees and foreign nationals, DoD contractors, and volunteers.”

Categories of records in the system:

Delete entry and replace with “Individual's name, gender, work address and telephone number, DoD ID Number and/or Social Security Number (SSN), work assignment, National Provider Identifier, medical training information including class names and class dates, and personnel readiness documentation that includes immunization and other health information required to determine an individual's fitness to perform their duties.”

Authority for maintenance of the system:

Delete entry and replace with “5 U.S.C. 301, Departmental Regulations; 10 U.S.C. 136, Under Secretary of Defense for Personnel and Readiness; E.O. 12656, Assignment of Emergency Preparedness Responsibilities; DoD Directive 5136.01, Assistant Secretary of Defense for Health Affairs (ASD(HA)); DoDI 1322.24, Medical Readiness Training; DoD 6010.13-M, Medical Expense Performance Reporting System for Fixed Military Medical Treatment Facilities Manual; and E.O. 9397 (SSN), as amended.”

* * * * *

Routine uses of records maintained in the system, including categories of users and the purposes of such uses:

Delete entry and replace with “In addition to those disclosures generally permitted under 5 U.S.C. 552a(b) of the Privacy Act of 1974, as amended, these records may specifically be disclosed outside the DoD as a routine use pursuant to 5 U.S.C. 552a(b)(3) as follows:

The DoD Blanket Routine Uses may apply to this system of records.”

* * * * *

Safeguards:

Delete entry and replace with “Systems are maintained in a controlled area accessible only to authorized personnel with a valid requirement and authorization to enter. Physical entry is restricted by the use of locks, passwords which are changed periodically, and administrative procedures.

Users must have a Common Access Control card and an active user account in DMHRSi in order to access. Access to personal information is restricted to those who require the data in the performance of their official duties. All personnel whose official duties require access to the information are trained in the proper safeguarding and use of the information.”

* * * * *

System manager(s) and address:

Delete entry and replace with “Chief/Deputy Program Manager, Resources Division, Defense Health Services Systems, Defense Health Agency, Defense Health Headquarters, 7700 Arlington Boulevard, Suite 5101, Falls Church, VA 22042-5101.”

Notification procedure:

Delete entry and replace with “Individuals seeking to determine whether information about themselves is contained in this system of records should address written inquiries to Chief, Freedom of Information Act (FOIA) Service Center, Defense Health Agency Privacy and Civil Liberties Office, 7700 Arlington Boulevard, Suite 5101, Falls Church, VA 22042-5101.

Written requests should contain the individual's full name, SSN and/or DoD ID Number.”

Record access procedures:

Delete entry and replace with “Individuals seeking access to records about themselves contained in this system of records should address written inquiries to the Chief, FOIA Service Center, Defense Health Agency Privacy and Civil Liberties Office, 7700 Arlington Boulevard, Suite 5101, Falls Church, VA 22042-5101.

Written requests for information should include the individual's full name, SSN and/or DoD ID number.”

Contesting record procedures:

Delete entry and replace with “The Office of the Secretary of Defense (OSD) rules for accessing records, for contesting contents and appealing initial agency determinations are published in OSD Administrative Instruction 81, 32 CFR Part 311, or may be obtained from the system manager.”

* * * * *

[FR Doc. 2014-27366 Filed 11-18-14; 8:45 am]

BILLING CODE 5001-06-P